DEPARTMENT OF DEFENSE

48 CFR Parts 202, 213, and 252

Defense Federal Acquisition Regulation Supplement; Technical Amendments

AGENCY: Department of Defense (DoD).

ACTION: Final rule.

SUMMARY: DoD is making technical amendments to the Defense Federal Acquisition Regulation Supplement to update activity names, clause titles and dates, and cross-references.

EFFECTIVE DATE: October 1, 2003.

FOR FURTHER INFORMATION CONTACT: Ms. Michele Peterson, Defense Acquisition Regulations Council, OUSD (AT&L) DPAP (DAR), IMD 3C132, 3062 Defense Pentagon, Washington, DC 20301-3062. Telephone (703) 602-0311; facsimile (703) 602-0350.

List of Subjects in 48 CFR Parts 202, 213, and 252

Government procurement.

Michele P. Peterson,
Executive Editor, Defense Acquisition Regulations Council.

Therefore, 48 CFR Parts 202, 213, and 252 are amended as follows:

1. The authority citation for 48 CFR Parts 202, 213, and 252 continues to read as follows:

Authority: 41 U.S.C. 421 and 48 CFR chapter 1.

PART 202—DEFINITIONS OF WORDS AND TERMS

202.101 [Amended]

2. Section 202.101 is amended in the definition of “Contracting activity”, under the heading “NAVY”, by removing “Marine Corps Materiel Command” and adding in its place “Marine Corps Systems Command”.

PART 213—SIMPLIFIED ACQUISITION PROCEDURES

213.301 [Amended]

3. Section 213.301 is amended in paragraph (2)(ii)(B) by removing “8.001” and adding in its place “8.002”.

213.302-5 [Amended]

4. Section 213.302-5 is amended as follows:

a. In paragraph (d) introductory text, in the first sentence, by removing “buy American Act—Balance of Payments Program—Supplies” and adding in its place “Buy American Act—Supplies”; and

b. In paragraph (d)(ii), by removing “225.1101(13)” and adding in its place “225.1101(10)”.

PART 252—SOLICITATION PROVISIONS AND CONTRACT CLAUSES

252.212-7001 [Amended]

5. Section 252.212-7001 is amended in paragraph (b), in entry “252.225-7021” by removing “(APR 2003)” and adding in its place “(AUG 2003)”.

[FR Doc. 03-24628 Filed 9-30-03; 8:45 am]

BILLING CODE 5001-08-P